DEPARTMENT OF ENERGY

Federal Energy Regulatory Commission

[Project No. 15226-000]

City of North Little Rock; Notice of Preliminary Permit Application Accepted for Filing and Soliciting Comments, Motions To Intervene, and Competing Applications

On June 28, 2021, the City of North Little Rock filed an application for a preliminary permit, pursuant to section 4(f) of the Federal Power Act, proposing to study the feasibility of the Toad Suck Ferry Lock & Dam Hydroelectric Project No. 15226-000 (Toad Suck Ferry Project, or project), a run-of-river project to be located at the existing U.S. Army Corps of Engineers' Toad Suck Ferry Lock and Dam in Faulkner County, Arkansas. The sole purpose of a preliminary permit, if issued, is to grant the permit holder priority to file a license application during the permit term. A preliminary permit does not authorize the permit holder to perform any land-disturbing activities or otherwise enter upon lands or waters owned by others without the owners' express permission.

The proposed project would consist of the following: (1) An existing reservoir with a maximum water surface elevation of 265.3 feet mean sea level; (2) an existing, 1,450-foot-long lock and dam, including a 1,120-foot-long spillway section with 16, 60-foot-long by 27-foot-high tainter gates; (3) a new headrace intake channel; (4) a new concrete powerhouse housing one, 40-megawatt horizontal turbine-generator unit; (5) a new discharge penstock; (6) a new tailrace receiving flow from the penstock; (7) a new interconnection line to either the existing, 69 kilo-Volt (kV) Bigelow substation, or the existing, 115-kV Mayflower substation; and (8) appurtenant facilities.

Applicant Contact: Scott Springer, 1400 W Maryland Ave., North Little Rock, Arkansas, 72120; phone: (501) 372-0100.

FERC Contact: Navreet Deo; phone: (202) 502-6304; email: navreet.deo@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-15226-000.

More information about this project, including a copy of the application, can be viewed or printed on the “eLibrary” link of Commission's website at http://www.ferc.gov/docs-filing/elibrary.asp. Enter the docket number (P-15226) in the docket number field to access the document. For assistance, contact FERC Online Support.

Dated: September 23, 2021.
Kimberly D. Bose,
Secretary.

[FR Doc. 2021-21156 Filed 9-28-21; 8:45 am]

BILLING CODE 6717-01-P